DEPARTMENT OF THE INTERIOR

Fish and Wildlife Service

[FWS-HQ-IA-2014-0019; FXIA167109ADV15-156-FF09A00000]

Advisory Council on Wildlife Trafficking

AGENCY: Fish and Wildlife Service, Interior.

ACTION: Notice of meeting.

SUMMARY: We, the U.S. Fish and Wildlife Service (Service), announce a public meeting of the Advisory Council on Wildlife Trafficking (Council). The Council's purpose is to provide expertise and support to the Presidential Task Force on Wildlife Trafficking. You may attend the meeting in person, or you may participate via telephone. At this time, we are inviting submissions of questions and information for consideration during the meeting.

DATES: Meeting: The meeting will be held on Thursday, April 23, 2015, from 9 a.m. to 1 p.m. Eastern Time.

Registering to Attend the Meeting: To attend the meeting in person, you must register by close of business on April 15, 2015. (You do not need to register to listen via phone.) Please submit your name, email address, and phone number to Mr. Cade London to complete the registration process (see FOR FURTHER INFORMATION CONTACT). Because there is limited seating available, registrations will be taken on a first-come, first-served basis. Members of the public requesting reasonable accommodations, such as hearing interpreters, must contact Mr. London, in writing (preferably by email), no later than April 15, 2015.

Submitting Questions or Information: If you want to provide us with questions and information to be considered during the meeting, your material must be received or postmarked on or before April 8, 2015. Comments submitted electronically using the Federal eRulemaking Portal (see ADDRESSES section) must be received by 11:59 p.m. Eastern Time on April 8, 2015.

Making an Oral Presentation at the Meeting: If you want to make an oral presentation at the meeting (in person or by phone), contact Mr. London no later than April 8, 2015 (see FOR FURTHER INFORMATION CONTACT). For more information, see Making an Oral Presentation under SUPPLEMENTARY INFORMATION.

ADDRESSES: Meeting Location: The meeting will be held at the U.S. Department of the Interior, South Interior Building Auditorium, 1951 Constitution Avenue NW., Washington, DC 20240.

Meeting Call-In Numbers: Members of the public unable to attend the meeting in person may call in at 888-946-7612 (toll free) or 1-517-308-9325 (toll) using the verbal passcode TRAFFIC. Members may register to give an oral presentation over the phone as well. For more information, see Making an Oral Presentation under SUPPLEMENTARY INFORMATION.

Submitting Questions or Information: You may submit questions or information for consideration during the meeting by one of the following methods:

1. Electronically: Go to the Federal eRulemaking Portal: http://www.regulations.gov. In the Search box, enter FWS-HQ-IA-2014-0019. Then click on the “Search” button. You may submit questions or information by clicking on “Comment Now!”

2. By hard copy: Submit by U.S. mail or hand-delivery to: Public Comments Processing, Attn: FWS-HQ-IA-2014-0019; Division of Policy, Performance, and Management Programs; U.S. Fish and Wildlife Service; 5275 Leesburg Pike, MS: ABHC; Falls Church, VA 22041-3803.

We will not accept email or faxes. We request that you send comments only by the methods described above. We will post all comments on http://www.regulations.gov. This generally means that we will post any personal information you provide us (see the Submitting Public Comments section below for more information).

Reviewing Comments Received by the Service: See Reviewing Public Comments in the SUPPLEMENTARY INFORMATION section.

FOR FURTHER INFORMATION CONTACT: Mr. Cade London, Special Assistant, International Affairs, U.S. Fish and Wildlife Service, by email at cade_london@fws.gov (preferable method of contact); by U.S. mail at U.S. Fish and Wildlife Service; 5275 Leesburg Pike, MS: IA; Falls Church, VA 22041-3803; by telephone at (703) 358-2584; or by fax at (703) 358-2276.

SUPPLEMENTARY INFORMATION: In accordance with the requirements of the Federal Advisory Committee Act (5 U.S.C. App.), we announce that the Advisory Council on Wildlife Trafficking (Council) will hold a meeting to discuss the implementation of the National Strategy for Combating Wildlife Trafficking, and other Council business as appropriate. The Council's purpose is to provide expertise and support to the Presidential Task Force on Wildlife Trafficking.

You may attend the meeting in person, or you may participate via telephone. At this time, we are inviting submissions of questions and information for consideration during the meeting.

Background

Executive Order 13648 established the Advisory Council on Wildlife Trafficking on August 30, 2013, to advise the Presidential Task Force on Wildlife Trafficking, through the Secretary of the Interior, on national strategies to combat wildlife trafficking, including, but not limited to:

1. Effective support for anti-poaching activities;

2. Coordinating regional law enforcement efforts;

3. Developing and supporting effective legal enforcement mechanisms; and

4. Developing strategies to reduce illicit trade and consumer demand for illegally traded wildlife, including protected species.

The eight-member Council, appointed by the Secretary of the Interior, includes former senior leadership within the U.S. Government, as well as chief executive officers and board members from conservation organizations and the private sector. For more information on the Council and its members, visit http://www.fws.gov/international/advisory-council-wildlife-trafficking/.

Meeting Agenda

The Council will consider:

1. National Strategy updates and Task Force discussions,

2. Administrative topics, and

3. Public comment and response.

The final agenda will be posted on the Internet at http://www.fws.gov/international/advisory-council-wildlife-trafficking/, as well as at http://www.regulations.gov.

Making an Oral Presentation

Members of the public who want to make an oral presentation in person or by telephone at the meeting will be prompted during the public comment section of the meeting to provide their presentation and/or questions. If you want to make an oral presentation in person or by phone, contact Mr. Cade London (FOR FURTHER INFORMATION CONTACT) no later than the date given in the DATES section for Making an Oral Presentation at the Meeting.

Registered speakers who want to expand on their oral statements, or those who wanted to speak but could not be accommodated on the agenda, are invited to submit written statements to the Council after the meeting. Such written statements must be received by Mr. London, in writing (preferably via email), no later than April 30, 2015.

Submitting Public Comments

You may submit your questions and information by one of the methods listed in ADDRESSES. We request that you send comments by only one of the methods described in ADDRESSES.

If you submit information via the Federal eRulemaking Portal (http://www.regulations.gov), your entire submission—including any personal identifying information—will be posted on the Web site.

If your submission is made via a hardcopy that includes personal identifying information, you may request at the top of your document that we withhold this information from public review. However, we cannot guarantee that we will be able to do so. We will post all hardcopy submissions at http://www.regulations.gov.

Reviewing Public Comments

Comments and materials we receive will be available for public inspection at http://www.regulations.gov. Alternatively, you may view them by appointment during normal business hours at 5275 Leesburg Pike, Falls Church, VA 22041-3803. Please contact Mr. London (see FOR FURTHER INFORMATION CONTACT).

Obtaining Meeting Minutes

Summary minutes of the meeting will be available on the Council Web site at http://www.fws.gov/international/advisory-council-wildlife-trafficking/, as well as at http://www.regulations.gov. Alternatively, you may view them by appointment during normal business hours at 5275 Leesburg Pike, Falls Church, VA 22041-3803. Please contact Mr. London (see FOR FURTHER INFORMATION CONTACT).

Gloria Bell,
Deputy Assistant Director, International Affairs, U.S. Fish and Wildlife Service.

[FR Doc. 2015-07546 Filed 4-1-15; 8:45 am]

BILLING CODE CODE 4310-55-P